DEPARTMENT OF COMMERCE

Foreign-Trade Zones Board

[Docket 60-2003]

L'Oreal USA, Inc.—Application for Subzone Status; Amendment of Application

The application for subzone status at the L'Oreal USA, Inc. facilities in Middlesex, Somerset and Union Counties, New Jersey, submitted by the New Jersey Department of Commerce and Economic Development (68 FR 65245, 11/19/03), has been amended. The amendment removes a parcel from Site 4 and adds a parcel to Site 1. The proposed subzone now consists of 4 sites with 156 acres:

Site 1 (Clark Complex, 4 Parcels, 24.7 acres total) as follows:

—4.6 acres at 175-195 Terminal Avenue, Clark, Union County

—8.8 acres at 200-222 Terminal Avenue, Clark, Union County

—9 acres at 60, 70 Leonard Street, Metuchen, Middlesex County

—2.3 acres at 70 Distribution Boulevard, Middlesex County

Site 2 (Piscataway Complex, 3 Parcels, 32.8 acres total) as follows:

—16.5 acres at 81 New England Avenue, Piscataway, Middlesex County

—5.2 acres at 60 New England Avenue, Piscataway, Middlesex County

—11.1 acres at 80 Schoolhouse Road, Somerset, Somerset County

Site 3 (Franklin Complex, 2 Parcels, 42.2 acres total) as follows:

—34.7 acres at 100 Commerce Drive, Somerset, Somerset County

—7.5 acres at 10 Van Dyke Avenue, New Brunswick, Middlesex County

Site 4 (56.5 acres) Brunswick Complex, located at 77 Deans Rhode Hall Road, Monmouth Junction, Middlesex County.

The comment period for the case referenced above is being extended to April 23, 2004, to allow interested parties additional time in which to comment. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

Dated: March 12, 2004.
Dennis Puccinelli,
Executive Secretary.

[FR Doc. 04-6614 Filed 3-23-04; 8:45 am]

BILLING CODE 3510-DS-P